DEPARTMENT OF COMMERCE

National Oceanic and Atmospheric Administration

RIN 0648-XA011

Endangered and Threatened Wildlife and Plants; Proposed Listings for Two Distinct Population Segments of Atlantic Sturgeon in the Southeast

AGENCY: National Marine Fisheries Service (NMFS), National Oceanic and Atmospheric Administration (NOAA), Commerce.

ACTION: Notice of two public hearings.

SUMMARY: In December 2010, we (NMFS) will hold two public hearings—one in Wilmington, NC and one in Atlanta, GA. The purpose of these hearings is to accept comments on the proposed listing of the Carolina and South Atlantic distinct population segments (DPSs) of Atlantic sturgeon (Acipenser oxyrinchus oxyrinchus) as endangered under the Endangered Species Act (ESA) of 1973, as amended.

DATES: The hearings will be held on December 6, 2010, from 6 to 9 p.m. in Wilmington, NC, and on December 7, 2010, from 6 to 9 p.m. in Atlanta, GA. An informational session will be held at the beginning of each hearing.

ADDRESSES: The public hearings will be held at the following locations:

• December 6, 2010, Coastline Conference and Event Center, 503 Nutt Street, Wilmington, NC 28401.

• December 7, 2010, Westin Atlanta Airport, 4736 Best Road, Atlanta, GA 30337.

FOR FURTHER INFORMATION CONTACT: Kelly Shotts, NMFS, Southeast Regional Office (727) 824-5312 or Marta Nammack, NMFS, Office of Protected Resources (301) 713-1401.

SUPPLEMENTARY INFORMATION:

Background

On October 6, 2010, we published a proposed rule (75 FR 61904) to list the Carolina and South Atlantic DPSs of Atlantic sturgeon as endangered under the ESA. We will accept oral and written comments regarding the proposed listing decision for these two DPSs of Atlantic sturgeon at the public hearings.

Special Accommodations

These hearings are physically accessible to people with disabilities. Requests for sign language interpretation or other auxiliary aids should be directed to Kelly Shotts at (727) 824-5312 no later than November 29, 2010.

Authority: 16 U.S.C. 1531 et seq.

Dated: November 4, 2010.
Helen M. Golde,
Deputy Director, Office of Protected Resources, National Marine Fisheries Service.

[FR Doc. 2010-28324 Filed 11-9-10; 8:45 am]

BILLING CODE 3510-22-P